DEPARTMENT OF HOMELAND SECURITY

Coast Guard

33 CFR Part 100

[Docket No. USCG-2021-0770]

Special Local Regulation; Marine Events Within the Eleventh Coast Guard District-San Diego Fall Classic

AGENCY: Coast Guard, Department of Homeland Security (DHS).

ACTION: Notification of enforcement of regulation.

SUMMARY: The Coast Guard will enforce the special local regulation on the waters of Mission Bay, San Diego, California, during the San Diego Fall Classic on November 14, 2021. This special local regulation is necessary to provide for the safety of the participants, crew, sponsor vessels of the rowing event, and general users of the waterway. During the enforcement period, persons and vessels are prohibited from entering into, transiting through, or anchoring within this regulated area unless authorized by the Captain of the Port, or his designated representative.

DATES: The regulations in 33 CFR 100.1101 for the location described in Table 1 to § 100.1101, Item No. 1, will be enforced from 5:30 a.m. until 12:30 p.m. on November 14, 2021.

FOR FURTHER INFORMATION CONTACT: If you have questions about this notification of enforcement, call or email Lieutenant Commander John Santorum, Waterways Management, U.S. Coast Guard Sector, San Diego, CA; telephone (619) 278-7656, email MarineEventsSD@uscg.mil.

SUPPLEMENTARY INFORMATION: The Coast Guard will enforce the special local regulations in 33 CFR 100.1101 for the location identified in Table 1 to § 100.1101, Item No. 1, from 5:30 a.m. through 12:30 p.m. on November 14, 2021 for the San Diego Fall Classic in Mission Bay, San Diego, CA. This action is being taken to provide for the safety of life on navigable waterways during the rowing event. Our regulation for recurring marine events in the San Diego Captain of the Port Zone, § 100.1101, Table 1 to § 100.1101, Item No. 1, specifies the location of the regulated area for the San Diego Fall Classic, which encompasses portions of Mission Bay. Under the provisions of § 100.1101, persons and vessels are prohibited from entering into, transiting through, or anchoring within this regulated area unless authorized by the Captain of the Port, or his designated representative. The Coast Guard may be assisted by other Federal, State, or local law enforcement agencies in enforcing this regulation.

In addition to this document in the Federal Register, the Coast Guard will provide the maritime community with advance notification of this enforcement period via the Local Notice to Mariners and marine information broadcasts.

Dated: November 4, 2021.
T.J. Barelli,
Captain, U.S. Coast Guard, Captain of the Port San Diego.

[FR Doc. 2021-24515 Filed 11-8-21; 8:45 am]

BILLING CODE 9110-04-P